DEPARTMENT OF TRANSPORTATION

Federal Motor Carrier Safety Administration

49 CFR Part 390

[Docket No. FMCSA-1997-2349]

RIN 2126-AA22

Unified Registration System; Correction

AGENCY: Federal Motor Carrier Safety Administration (FMCSA), DOT.

ACTION: Final rule; correction.

SUMMARY: FMCSA makes corrections to its August 23, 2013, final rule regarding the Unified Registration System. This document makes four minor revisions to the URS final rule to be consistent with the Agency's “General Technical, Organizational and Conforming Amendments to the Federal Motor Carrier Safety Regulations” final rule published on September 24, 2013.

DATES: Effective October 23, 2013.

FOR FURTHER INFORMATION CONTACT: Mr. Jeffrey S. Loftus, (202) 385-2363; or by email at jeff.loftus@dot.gov. Business hours are from 8 a.m. to 4:30 p.m. ET, Monday through Friday, except Federal holidays.

SUPPLEMENTARY INFORMATION: In FR Doc. 2013-20446, beginning on page 78 FR 52608 in the Federal Register of Friday, August 23, 2013, the following corrections are made:

§ 390.3 [Corrected]

1. In Part 390—Federal Motor Carrier Safety Regulations; General, § 390.3 General applicability is corrected as follows:

a. On page 52652, in the second column, in paragraph (f)(1), “All school bus operations as defined in § 390.5 except for the provisions of §§ 391.15(e) and 392.80;” is corrected to read “All school bus operations as defined in § 390.5 except for the provisions of §§ 391.15(e) and (f), 392.80, and 392.82 of this chapter;”.

b. On page 52652, in the third column, in paragraph (f)(6), line 7, “except for the texting provisions of §§ 391.15(e) and 392.80, and except that motor carriers operating such vehicles are required to comply with §§ 390.15, 390.21(a) and (b)(2), 390.201 and 390.205.” is corrected to read “except for the provisions of §§ 391.15(e) and (f), 392.80, and 392.82, and except that motor carriers operating such vehicles are required to comply with §§ 390.15, 390.21(a) and (b)(2), 390.201, and 390.205.”

c. On page 52653, in the first column, in paragraph (k), “The rules in subpart C of this part,” is corrected to read “The rules in subpart E of this part,”.

§ 390.19 [Corrected]

2. On page 52653, at the top of the second column, under amendment number 55, in § 390.19, the section heading “Motor carrier, hazardous material shipper, and intermodal equipment provider identification reports.” is corrected to read “Motor carrier, hazardous materials safety permit applicant/holder, and intermodal equipment provider identification reports.”

Dated: October 16, 2013.
Larry Minor,
Associate Administrator for Policy.

[FR Doc. 2013-24728 Filed 10-22-13; 8:45 am]

BILLING CODE 4910-EX-P